DEPARTMENT OF TRANSPORTATION

Federal Aviation Administration

Notice of Intent To Rule on Request To Release Airport Land at the Madera Municipal Airport, Madera, CA

AGENCY: Federal Aviation Administration (FAA), DOT.

ACTION: Notice of request to release airport land.

SUMMARY: The Federal Aviation Administration proposes to rule and invites public comment on the release of approximately 1.332 acres of land at Madera Municipal Airport, Madera, California, from all restrictions of the surplus property agreement. The purpose of the release is to permit the sale of the property located in the north east side of the airport and immediately adjacent to Aviation Drive to an individual for the construction of an aircraft hangar on land cost-prohibitive for the City of Madera to develop.

DATES: Comments must be received on or before July 17, 2002.

ADDRESSES: Comments on this application may be mailed or delivered in triplicate to the FAA at the following address: Federal Aviation Administration, Airports Division, 15000 Aviation Blvd., Lawndale, CA 90261. In addition, one copy of any comments submitted to the FAA must be mailed or delivered to Mr. Sam Scheider, Airport Operations Manager, Madera Municipal Airport, 4020 Aviation Drive, Madera, CA 93637.

FOR FURTHER INFORMATION CONTACT: Mr. Ellsworth Chan, Manager, Safety and Standards Branch, AWP-620, 15000 Aviation Blvd., Lawndale, CA 90261, Telephone: (310) 725-3620. The request to release airport property may be reviewed in person at this same location.

SUPPLEMENTARY INFORMATION: On April 5, 2000, new authorizing legislation became effective. That bill, the Wendell H. Ford Aviation Investment and Reform Act for the 21st Century (AIR 21), Public Law 10-181 (Apr. 5, 2000; 114 Stat. 61), requires that a 30-day public notice must be provided before the Secretary may waive any condition imposed on an interest in surplus property.

The following is a brief overview of the request:

The City of Madera requested the release of approximately 1.332 acres of dedicated airport land at Madera Municipal Airport, Madera, California, from surplus property agreement obligations. The purpose of the release is to permit the sale of property that is cost prohibitive for the City of Madera to develop into any kind of aeronautical use. The property is an economic deterrent as the site is being at low elevation so as to require significant fill to bring it to grade. The net proceeds will be utilized for airport improvements for projects identified in the Airport Capital Improvement Plan.

Issued in Hawthorne, California, on June 5, 2002.
Herman C. Bliss,
Manager, Airports Division, Western-Pacific Region.

[FR Doc. 02-15198 Filed 6-14-02; 8:45 am]

BILLING CODE 4910-13-M